DEPARTMENT OF TRANSPORTATION

Maritime Administration

[Docket No. MARAD-2000-8072]

Information Collection Available for Public Comments and Recommendations

ACTION: Notice and request for comments.

SUMMARY: In accordance with the Paperwork Reduction Act of 1995 (44 U.S.C. 3501 et seq.) this notice announces the Maritime Administration's (MARAD) intentions to request Office of Management and Budget (OMB) approval of a currently approved information collection titled “Port Facility Conveyance Information,” OMB Number 2133-0524.

DATES: Comments should be submitted on or before December 11, 2000.

FOR FURTHER INFORMATION CONTACT: William J. Aird, Office of Ports and Domestic Shipping, MAR-830, Room 7201, 400 Seventh Street, SW., Washington, DC 20590. Telephone 202-366-1901 or fax—202-366-6988. Copies of this collection can also be obtained from that office.

SUPPLEMENTARY INFORMATION: Title of Collection: Port Facility Conveyance Information.

Type of Request: Extension of a currently approved information collection.

OMB Control Number: 2133-0524.

Form Number: None.

Expiration Date of Approval: Three years from the date of approval.

Summary of Collection of Information: Public Law 103-160 authorizes the Department of Transportation to convey to public entities surplus Federal property needed for the development or operation of a port facility. The information collection will allow MARAD to approve the conveyance of property and administer the port facility conveyance program.

Need and Use of the Information: The information collection is necessary for MARAD to determine whether (1) the community is committed to the redevelopment/reuse plan; (2) the redevelopment /reuse plan is viable and is in the best interest of the public; and (3) the property is being used in accordance with the terms of the conveyance and applicable statutes and regulations.

Description of Respondents: Eligible port entities.

Annual Responses: 30 responses.

Annual Burden: 1,280 hours.

Comments: Comments regarding this information collection should refer to the docket number that appears at the top of this document. Written comments may be submitted to the Docket Clerk, U.S. DOT Dockets, Room PL-401, 400 Seventh Street, SW., Washington, DC 20590. Comments may also be submitted by electronic means via the Internet at http://dmses.dot.gov/submit. Specifically, address whether this information collection is necessary for proper performance of the function of the agency and will have practical utility, accuracy of the burden estimates, ways to minimize this burden, and ways to enhance quality, utility, and clarity of the information to be collected. All comments received will be available for examination at the above address between 10 a.m. and 5 p.m., Monday through Friday, except Federal Holidays. An electronic version of this document is available on the World Wide Web at http://dms.dot.gov.

Dated: October 5, 2000.
By Order of the Maritime Administrator.
Joel C. Richard,
Secretary.

[FR Doc. 00-26147 Filed 10-11-00; 8:45 am]

BILLING CODE 4910-81-P